ENVIRONMENTAL PROTECTION AGENCY

40 CFR Part 300

[FRL-7793-5]

National Oil and Hazardous Substance Pollution Contingency Plan; National Priorities List

AGENCY: Environmental Protection Agency.

ACTION: Proposed notice of intent to delete the South 8th Street Landfill Superfund Site from the National Priorities List.

SUMMARY: The Environmental Protection Agency (EPA) Region 6 is issuing a notice of intent to delete the South 8th Street Landfill Superfund Site (Site) located in West Memphis, Crittenden County, Arkansas, from the National Priorities List (NPL) and requests public comments on this notice of intent. The NPL, promulgated pursuant to section 105 of the Comprehensive Environmental Response, Compensation, and Liability Act (CERCLA) of 1980, as amended, is found at Appendix B of 40 CFR part 300 of the National Oil and Hazardous Substances Pollution Contingency Plan (NCP). The EPA and the State of Arkansas, through the Arkansas Department of Environmental Quality, have determined that all appropriate response actions under CERCLA, other than operation and maintenance and five-year reviews, have been completed. However, this deletion does not preclude future actions under Superfund. In the “Rules and Regulations” section of today's Federal Register, we are publishing a direct final notice of deletion of the South 8th Street Landfill Superfund Site without prior notice of intent to delete because we view this as a noncontroversial revision and anticipate no adverse comment. We have explained our reasons for this deletion in the preamble to the direct final deletion. If we receive no adverse comment(s) on this notice of intent to delete or the direct final notice of deletion, we will not take further action on this notice of intent to delete. If we receive adverse comment(s), we will withdraw the direct final notice of deletion and it will not take effect. We will, as appropriate, address all public comments in a subsequent final deletion notice based on this notice of intent to delete. We will not institute a second comment period on this notice of intent to delete. Any parties interested in commenting must do so at this time. For additional information, see the direct final notice of deletion which is located in the rules section of this Federal Register.

DATES: Comments concerning this Site must be received by August 30, 2004.

ADDRESSES: Written comments should be addressed to: Vincent Malott, Remedial Project Manager, U.S. EPA Region 6 (6SF-AP), 1445 Ross Avenue, Dallas, TX 75202-2733, (214) 665-8313 or 1-800-533-3508 (malott.vincent@epa.gov).

FOR FURTHER INFORMATION CONTACT: Vincent Malott, Remedial Project Manager, EPA Region 6 (6SF-AP), 1445 Ross Avenue, Dallas, TX 75202-2733, (214) 665-8313 or 1-800-533-3508 (malott.vincent@epa.gov).

SUPPLEMENTARY INFORMATION: For additional information, see the Direct Final Notice of Deletion which is located in the rules section of this Federal Register.

Information Repositories: Repositories have been established to provide detailed information concerning this decision at the following address: EPA Region 6, Seventh Floor Reception Area, 1445 Ross Avenue, Suite 12D13, Dallas, Texas 75202-2733, Appointments: (214) 665-6548, Monday-Friday—7:30 a.m. to 4:30 p.m.; West Memphis Public Library, 213 North Avalon, West Memphis, AR 72301, (870) 732-7590, Monday 10 a.m.-8 p.m., Tuesday-Thursday 10 a.m.-7 p.m., Friday 10 a.m.-5 p.m., Saturday 10 a.m.-3 p.m., closed on Sunday; Arkansas Department of Environmental Quality, attention: Masoud Arjmandi, 8001 National Drive, Little Rock, Arkansas 72219, (501) 682-0852, Monday-Friday, excluding holidays, 8 a.m. to 4:30 p.m.

List of Subjects in 40 CFR Part 300

Environmental protection, Air pollution control, Chemicals, Hazardous waste, Hazardous substances, Intergovernmental relations, Penalties, Reporting and recordkeeping requirements, Superfund, Water pollution control, Water supply.

Authority: 33 U.S.C. 1321(c)(2); 42 U.S.C. 9601-9657; E.O. 12777, 56 FR 54757, 3 CFR, 1991 Comp., p. 351; E.O. 12580, 52 FR 2923; 3 CFR, 1987 Comp., p. 193.

Dated: July 20, 2004.
Richard E. Greene,
Regional Administrator, Region 6.

[FR Doc. 04-17300 Filed 7-29-04; 8:45 am]

BILLING CODE 6560-50-P